DEPARTMENT OF ENERGY

Federal Energy Regulatory Commission

[Project No. 13272-004]

Alaska Village Electric Cooperative, Inc., Alaska; Notice of Availability of Draft Environmental Assessment

In accordance with the National Environmental Policy Act of 1969, Title XI of the Alaska National Interest Lands Conservation Act, and the Federal Energy Regulatory Commission's (Commission) regulations, 18 CFR part 380 (Order No. 486, 52 FR 47,897), the Office of Energy Projects has reviewed the application for an original license to construct the Old Harbor Hydroelectric Project, and has prepared a Draft Environmental Assessment (EA) with the cooperation of the U.S. Fish and Wildlife Service (FWS). The proposed 262 kilowatt (kW) project would be constructed on the East Fork of Mountain Creek and transfer water into a powerhouse on the Lagoon Creek Tributary, near the town of Old Harbor, Kodiak Island Borough, Alaska. Some project facilities would be located on approximately 1.85 acres of federal lands of the Kodiak National Wildlife Refuge.

The draft EA contains Commission staff's analysis and the FWS staff's review of the analysis of the potential environmental impacts of the proposed hydroelectric project. The draft EA concludes that licensing the project, with appropriate environmental protective measures, would not constitute a major federal action that would significantly affect the quality of the human environment.

A copy of the draft EA is available for review at the Commission in the Public Reference Room or may be viewed on the Commission's Web site at www.ferc.gov using the “eLibrary” link. Enter the docket number excluding the last three digits in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support.

Any comments should be filed within 30 days from the date of this notice.

The Commission strongly encourages electronic filings. Please file comments using the Commission's eFiling system at http://www.ferc.gov/docs-filing/efiling.asp. Commenters can submit brief comments up to 6,000 characters, without prior registration, using the eComment system at http://www.ferc.gov/docs-filing/ecomment.asp.

You must include your name and contact information at the end of your comments. For assistance, please contact FERC Online Support. In lieu of electronic filing, please send a paper copy to: Secretary, Federal Energy Regulatory Commission, 888 First Street NE., Washington, DC 20426. Please affix “Project No. 13272-004” to all comments.

Please contact Adam Beeco (Commission Staff) by telephone at (202) 502-8655, or by email at adam.beeco@ferc.gov, if you have any questions concerning the hydroelectric licensing process or contact Stephanie Brady (FWS Staff) by telephone at (907) 306-7448 or by email at stephanie_brady@fws.gov, if you have questions concerning the right-of-way permit.

Dated: May 7, 2015.
Kimberly D. Bose,
Secretary.

[FR Doc. 2015-11635 Filed 5-13-15; 8:45 am]

BILLING CODE 6717-01-P